DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 15, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Regional Agricultural Promotion Program.

OMB Control Number: 0551-0049.

Summary of Collection: The authority for the Agricultural Trade Promotion Program (ATP) is contained in the authority derived from the Commodity Credit Corporation (CCC) Charter Act, 15 U.S.C. 714c(f)—Specific Powers of Corporation. Program regulations were necessary to establish this new CCC program. The ATP reimburses trade mitigation activities undertaken by nonprofit U.S. agricultural trade organizations, nonprofit state regional trade groups (SRTGs), U.S. agricultural cooperatives, and state agencies that conduct approved foreign market development activities and suffered damages as a result of tariffs imposed on U.S. agricultural products in 2018/2019.

The program is administered by personnel of the Foreign Agricultural Service (FAS) and is republishing the 30dayFRN to account the name change for this program from Agricultural Trade Promotion Program to Regional Agricultural Promotion Program. Lastly, for this reason, the prior published 30day FRN unknowingly overlapped with the published 60dayFRN.

Need and Use of the Information: The information collected is used by FAS marketing specialists and program managers for the allocation of funds, program management, planning, and evaluation. The integrity of the program hinges on information received from or maintained by the industry.

Description of Respondents: Not-for-profit institutions; State, Local or Tribal Government.

Number of Respondents: 67.

Frequency of Responses: Recordkeeping; Reporting: On occasion; Annually.

Total Burden Hours: 38,684.

Rachelle Ragland-Greene,
Departmental Information Collection Clearance Officer.

[FR Doc. 2025-15464 Filed 8-13-25; 8:45 am]

BILLING CODE 3410-10-P